DEPARTMENT OF THE INTERIOR

Fish and Wildlife Service

NiSource Inc. Application for an Incidental Take Permit

AGENCY: Fish and Wildlife Service, Interior.

ACTION: Notice of intent to prepare an environmental impact statement, announcement of public scoping meetings, and request for comments.

SUMMARY: Pursuant the National Environmental Policy Act (NEPA) of 1969, as amended, we, the Fish and Wildlife Service (Service), as lead agency, are advising the public that we intend to prepare an Environmental Impact Statement (EIS) on a proposed application from NiSource Inc. (Applicant) for an Incidental Take Permit (ITP) issued under Section 10(a)(1)(B) of the Endangered Species Act of 1973, as amended (Act). The ITP would potentially include multiple federally listed species across 17 States and cover NiSource operations, maintenance, construction, and emergency response activities associated with the company's interstate natural gas transmission and storage business.

We provide this notice to (1) describe the proposed action and possible alternatives; (2) advise other Federal and State agencies, potentially affected tribal interests, and the public of our intent to prepare an EIS; (3) announce the initiation of a public scoping period; and (4) obtain suggestions and information on the scope of issues to be included in the EIS.

DATES: To ensure consideration, we must receive your written comments on or before November 30, 2007. For approximate public meeting dates, see “Public Meetings.”

ADDRESSES: Send your comments or request for information by any one of the following methods:

• U.S. Mail: Regional Director, U.S. Fish and Wildlife Service, Division of Ecological Services, 1 Federal Drive, Fort Snelling, MN 55111-4056.

• Facsimile: 612-713-5292.

• E-Mail: http://infoman.amec.com/SIMS_PublicComment/.

FOR FURTHER INFORMATION CONTACT: Mr. Thomas Magnuson, at 612-713-5467 or tom_magnuson@fws.gov, or Mr. Forest Clark, at 812-334-4261 ext. 206 or forest_clark@fws.gov.

SUPPLEMENTARY INFORMATION:

Public Meetings

To facilitate information transfer, we will hold public meetings in the following cities between November 5, 2007, and November 16, 2007: Lafayette, LA; Jackson, MS; Nashville TN; Lexington, KY; Philadelphia, PA; Pittsburgh, PA; Columbus, OH; Cleveland, OH; Charleston, WV; Richmond, VA; Washington, D.C.; Binghamton, NY; and Portsmouth, NH. Specific locations, dates, and times of public meetings can be found at the following Web site: http://www.fws.gov/midwest/Endangered/permits/hcp/hcp_nisource.html.

Reasonable Accommodations

Persons needing reasonable accommodations in order to attend and participate in the public meetings should contact the Service at the address above no later than 1 week before the public meeting. Information regarding this proposed action is available in alternative formats upon request.

Background

The operations conducted by the Applicant's subject subsidiaries—Columbia Gas Transmission Corporation, Columbia Gulf Transmission Corporation, Granite State Gas Transmission Corporation and Crossroads Pipeline Corporation—are specific only to the interstate natural gas transmission and storage business. The Applicant's primary operations are subject to the Natural Gas Act (15 U.S.C. 717, et seq.) (NGA), and fall under the direct jurisdiction of the Federal Energy Regulatory Commission (FERC) and the U.S. Department of Transportation (USDOT). The proposed ITP would be granted for those activities undertaken by the four Applicant subsidiaries noted above.

The Applicant currently maintains and operates approximately 17,000 miles of onshore and offshore interstate natural gas transmission pipelines and appurtenant facilities in Louisiana, Mississippi, Tennessee, Kentucky, Virginia, West Virginia, North Carolina, Indiana, Ohio, Pennsylvania, New York, New Jersey, Delaware, New Hampshire, Maine, Maryland, and Massachusetts. In addition, the Applicant operates and maintains underground natural gas storage fields (36) in conjunction with its pipeline system which are comprised of approximately 3,600 individual storage wells in West Virginia, Ohio, Pennsylvania, and New York.

The Applicant currently addresses listed species-related concerns pursuant to Section 7 of the Act (16 U.S.C. 1531, et seq.), as well as associated NGA regulations which are under the purview of the FERC and/or associated with U.S. Army Corps of Engineers' (USACE) permitting requirements.

Section 9 of the Act and its implementing regulations prohibit the take of animal species listed as endangered or threatened. The definition of take under the Act includes the following activities: To harass, harm, pursue, hunt, shoot, wound, kill, trap, capture, or collect listed animal species, or attempt to engage in such conduct (16 U.S.C. 1538). We have certain responsibilities for the conservation and protection of threatened and endangered species under the Act. Section 10 of the Act, 16 U.S.C. 1539, establishes a program whereby persons seeking to pursue activities that otherwise could give rise to liability for unlawful “take” of federally protected species may receive an ITP, which protects them from such liability. To obtain an ITP, an applicant must submit a Habitat Conservation Plan (HCP) containing appropriate minimization and mitigation measures and ensure that the taking is incidental to, and not the purpose of, an otherwise lawful activity (16 U.S.C. 1539(a)(1)(B) and 1539(a)(2)(A). Once we have determined that the applicant has satisfied these and other statutory criteria, we may issue the ITP.

The Applicant has entered into discussions with us to explore ways to more efficiently address their Act obligations, while also maximizing the conservation and mitigation that they undertake on a yearly basis through the traditional Section 7 process. The Applicant has also initiated discussions with FERC and USACE, and other stakeholders (States, non-governmental organizations, etc.). Accordingly, both FERC and USACE will be cooperating agencies for the environmental review process.

If successful, the Applicant's HCP and subsequent ITP would allow take authorization for otherwise lawful activities, such as the Applicant's facility construction, maintenance, operation, and emergency response activities inherent to its interstate natural gas transmission and storage business. The HCP will contain a multifaceted approach, including but not limited to take avoidance, minimization (e.g., through proven and defined best management practices), and mitigation through potential preservation, restoration, and enhancement measures. The Applicant must also ensure that adequate funding for implementation and compliance monitoring be provided.

Species the Applicant has proposed for inclusion in the HCP are species that are currently listed as federally threatened or endangered or have the potential to become listed during the life of this HCP, and have some likelihood of occurring within the project area (as defined in Table 1 below). Only those species under the purview of the Service will be assessed in the EIS and included in the ITP.

The project area (i.e., proposed “covered lands”) is hereby defined as a 1-mile wide corridor centered upon the Applicant's existing facilities (i.e., ½ mile on each side of the right-of-way center line).

Table 1.—Species Proposed for Inclusion in the NiSource HCP
Common name | Scientific name | Federal status | Where listed | Final listing rule
Gray Bat | Myotis grisescens | E | AL, AR, FL, GA, IL, IN, KS, KY, MO, OK, TN, VA, WV | 41 FR 17736.
Indiana bat | Myotis sodalist | E | AL, AR, CT, GA, IL, IN, IA, KY, MD, MI, MS, MO, NJ, NC, OH, OK, PA, TN, VT, VA, WV | 32 FR 4001.
Louisiana black bear | Ursus americanus luteolus | T | LA, MS, TX | 57 FR 588.
Virginia big-eared bat | Plecotus townsendii virginianus | E | KY, NC, VA, WV | 44 FR 69206.
Virginia northern flying squirrel | Glaucomys sabrinus fuscus | E | VA, WV | 50 FR 26999.
New England Cottontail | Sylvilagus transitionalis | C
Bald eagle | Haliaeetus leucocephalus | T | Delisted | 72 FR 37346.
Brown pelican | Pelecanus occidentalis Linnaeus | E | CA, LA, MS, OR, PR, TX, VI, WA | 35 FR 16047.
Interior least tern | Sterna antillarum | E | AR, CO, IL, IA, KS, KY, LA, MS, MO, MT, NE, NM, ND, OK, SD, TN, TX | 50 FR 21784.
Piping plover | Charadrius melodus | E/T/CH | Great Lakes E—IL, IN, MI, MN, NY, OH, PA, WI; Remaining T—AL, CO, CT, DE, FL, GA, IN, IA, KS, KY, LA, ME, MD, MA, MN, MS, MO, MT, NE, NH, NJ, NY, NC, ND, OH, OK, PR, RI, SC, TX, VA, WV | 50 FR 50726, Critical Habitat—66 FR 57637 Northern Great Plains, 66 FR 22938 Great Lakes.
Red cockaded woodpecker | Picoides borealis | E | AL, AR, FL, GA, LA, MS, NC, OK, SC, TX, VA | 35 FR 16047.
Bog turtle | Glyptemys muhlenbergii | T | GA, NC, SC, VA, CT, DE, MD, MA, NJ | 62 FR 59605.
Copperbelly watersnake | Nerodia erthrogaster neglecta | T | IN, MI, OH | 62 FR 4183.
Eastern Massasauga | Sistrurus catenatus catenatus | C
Louisiana pine snake | Pituophis ruthveni | C
Cheat mountain salamander | Plethodon nettingi | T | WV | 54 FR 34464.
Shenandoah salamander | Plethodon Shenandoah | E | VA | 54 FR 34464.
Maryland darter | Etheostoma sellare | E | MD | 32 FR 4001.
Pallid sturgeon | Scapnirhynchus albus | E | AR, IL, IA, KS, KY, LA, MS, MO, MT, NE, ND, SD, TN | 55 FR 36641.
Roanoke logperch | Percina rex | E | VA | 54 FR 34464.
Spotfin chub | Erimonax monachus | T | TN | 42 FR 45526.
Madison cave isopod | Antrolana lira | T | VA, WV | 47 FR 43699.
Nashville crayfish | Orconectes shoupi | E | TN | 51 FR 34410.
Clubshell | Pleurobema clava | E | IN, KY, MI, OH, PA, WV | 58 FR 5638.
Birdwing pearlymussel | Lemiox rimosus | E | TN, VA. |
Cracking pearlymussel | Hemistena lata | E | AL, IN, KY, PA, TN, VA | 54 FR 39850.
Cumberland monkeyface pearlymussel | Quadrula Rafinesque | E | AL, TN, VA | 41 FR 24062.
Dwarf wedgemussel | Alasmidonta heterodon | E | CT, MD, MA, NH, NJ, NC, PA, VT, VA | 55 FR 9447.
Fanshell | Cyprogenia stegaria | E | AL, IL, IN, KY, OH, TN, VA, WV | 55 FR 25591.
Fat pocketbook | Potamilus capax | E | AR, IL, IN, KY, MS, MO | 41 FR 24062.
James spinymussel | Pleurobema collina | E | NC, VA, WV | 53 FR 27693.
Louisiana pearlshell | Margaritifera hembeli | T | LA | 58 FR 49935.
Northern riffleshell | Epioblasma torulosa rangiana | E | IN, KY, MI, OH, PA, WV | 58 FR 5638.
Orangefoot pimpleback pearlymussel | Plethobasus cooperianus | E | AL, IL, IN, KY, PA, TN | 41 FR 24062.
Oyster mussel | Epioblasma capsaeformis | E/CH | AL, KY, TN, VA | 62 FR 1647.
Pink mucket pearlymussel | Lampsilis orbiculata | E | AL, AR, IL, IN, KY, LA, MO, OH, PA, TN, VA, WV | 41 FR 24026.
Purple catspaw pearlymussel | Epioblasma obliquata | E | AL, KY, OH, TN | 55 FR 28209.
Rayed bean | Villosa fabalis | C
Ring pink mussel | Obovaria retusa | E | AL, IN, KY, PA, TN | 54 FR 40109.
Rough pigtoe | Pleurobema plenum | E | AL, IN, KY, PA, TN, VA | 42 FR 24062.
Sheepnose | Plethobasus cyphyus | C
Slabside pearlymussel | Lexingtonia dolabelloides | C
Spectaclecase | Cumberlandia monodonta | C
Tan riffleshell | Epioblasma florentina walkeri | E | KY, TN, VA | 42 FR 42351.
White cat's paw pearlymussel | Epioblasma obliquata perobliqua | E | IN, OH | 41 FR 24062.
White wartyback pearlymussel | Plethobasus cicatriocosus | E | AL, IN, KY, TN | 41 FR 24062.
American burying beetle | Nicrophorus americanus | E | AR, MA, MI, NE, OH, OK, RI, SD | 54 FR 29652.
Karner blue butterfly | Lycaeides melissa Samuelis | E | IL, IN, MI, MN, NH, NY, OH, WI | 57 FR 59236.
American chaffseed | Schwalbea americana L | E | AL, FL, GA, LA, MS, NJ, NC, SC | 57 FR 44703.
Eastern prairie fringed orchid | Platanthera leucophaea | T | AR, IL, IA, ME, MI, OH, OK, VA, WI | 54 FR 39857.
Globe bladderpod (previously Short's bladderpod) | Lesquerella globosa | C
Harperella | Ptilimnium nodosum | E | AL, AR, GA, MD, NC, SC, VA, WV | 53 FR 37978.
Lakeside daisy | Tetraneuris herbacea | E | IL, MI, OH | 53 FR 23742.
Leafy prairie clover | Dalea foliosa | E | AL, IL, TN | 56 FR 19953.
Leedy's roseroot | Rhodiola integrifolia ssp. Leedyi | T | MN, NY | 57 FR 14649.
Mead's milkweed | Asclepias meadii | T | IL, IN, IA, KS, MO | 53 FR 33992.
Michaux's sumac | Rhus michauxii | T | GA, NC, SC, VA | 54 FR 39850.
Northeastern bulrush | Scirpus ancistrochaetus | E | MD, MA, NH, PA, VT, VA, WV | 56 FR 21091.
Northern Monkshood | Aconitum noveboracense | E | IA, NY, OH, WI | 43 FR 17910.
Pondberry | Lindera melissifolia | E | AR, GA, MS, MO, NC, SC | 51 FR 27495.
Price's potato bean | Apios priceana | T | AL, IL, KY, MS, TN | 55 FR 429.
Running buffalo clover | Trifolium stoloniferum | E | AR, IN, KY, MO, OH, WV | 52 FR 21478.
Sandplain gerardia | Agalinis acuta | E | CT, MD, MA, NY, RI | 53 FR 34701.
Sensitive joint-vetch | Aeschynomene sensitive | T | MD, NJ, NC, VA | 57 FR 21569.
Shale barren rockcress | Arabis serotina | E | VA, WV | 54 FR 29655.
Short's goldenrod | Solidago shortii | E | IN, KY | 50 FR 36085.
Small whorled pogonia | Isotria medeoloides | T | CT, DE, GA, IL, ME, MA, MI, NH, NJ, NC, OH, PA, RI, SC, TN, VA, WV | 59 FR 50852.
Smooth coneflower | Echinacea laevigata | E | GA, NC, SC, VA | 57 FR 46340.
Spring Creek bladderpod | Lesquerella perforate | E | TN | 61 FR 67493.
Swamp pink | Helonias bullata L | T | DE, GA, MD, NJ, NC, SC, VA | 53 FR 35076.
Tennessee purple coneflower | Echinacea tennesseensis | E | TN | 44 FR 32604.
Tennessee yellow-eyed grass | Xyris tennesseensis kral | E |  | 56 FR 34151.
Virginia sneezeweed | Helenium virginicum | T | MD, VA | 63 FR 59239.
Virginia spiraea | Spiraea virginiana | T | GA, KY, NC, OH, PA, TN, VA, WV | 55 FR 24241.
White Fringeless Orchid | Platanthera integrilabia | C
White-haired goldenrod | Solidago albopilosa | T | KY | 53 FR 11612.

Environmental Impact Statement

We will be the lead Federal agency in the preparation of an EIS that will satisfy the requirements of the National Environmental Policy Act (NEPA; (42 U.S.C. 4321, et seq.). USACE and FERC will serve as cooperating agencies during the preparation of the EIS. With this NOI, we ask other Federal, State, and local agencies with jurisdiction and/or special expertise with respect to environmental issues, in addition to those agencies that have already agreed to serve as cooperating agencies (as noted above), to formally cooperate with us in the preparation of the EIS. Agencies that would like to request cooperating agency status on the EIS should follow the instructions for filing comments provided under the Addresses section of this NOI.

The EIS will consider the proposed action (i.e., the issuance of a Section 10(a)(1)(B) permit under the Act, as supported by an HCP), no action (no HCP/no Section 10 permit), and a reasonable range of alternatives that accomplish the purpose and need of the proposal. A detailed description of the proposed action and alternatives will be included in the EIS. The alternatives to be considered for analysis in the EIS may include, but not be limited to, modified lists of covered species, land coverage areas, and activities coverage. The EIS will also identify potentially significant impacts on biological resources, land use, air quality, water quality, water resources, economics, and other environmental/historical resources that may occur directly or indirectly as a result of implementing the proposed action or any of the alternatives. Various strategies for avoiding, minimizing, and mitigating the impacts of incidental take may also be considered.

Environmental review of the EIS will be conducted in accordance with the requirements of NEPA, its implementing regulations (40 CFR parts 1500-1508), other applicable regulations, and our procedures for compliance with those regulations. We furnish this notice in accordance with 40 CFR 1501.7 and 1508.22 to obtain suggestions and information from other agencies and the public on the scope of issues and alternatives they believe need to be addressed in the EIS. The primary purpose of the scoping process is to identify important issues raised by the public related to the proposed action. Written comments from interested parties are invited to ensure that the full range of issues related to the proposed permit application is identified. Comments will only be accepted in written form.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: September 19, 2007.
Wendi Weber,
Assistant Regional Director, Great Lakes-Big Rivers Region.

[FR Doc. E7-20039 Filed 10-10-07; 8:45 am]

BILLING CODE 4310-55-P